DEPARTMENT OF THE INTERIOR

Fish and Wildlife Service

The Rhinoceros and Tiger Conservation Act of 1998; Request for Public Input Into the Development and Execution of an Educational Outreach Program Action Plan; Announcement of Two Public Meetings

AGENCY: Fish and Wildlife Service, Interior.

ACTION: Notice.

SUMMARY: The Rhinoceros and Tiger Conservation Act of 1994 was amended in 1998 to prohibit the sale, importation, or exportation of products labeled or advertised as containing rhinoceros or tiger products, and to carry out an associated educational outreach program. Prior to developing and carrying out such an educational outreach effort, we seek input and guidance from the public on the needed components for such an effort. To guide this effort, we have developed a draft interim educational plan with the goals of a long-term plan clearly identified but action items developed only for a short time frame until we can meet with the public and solicit input for the development of future action items.

With this notice, we request your comments and input on the draft Educational Outreach Program Interim Action Plan and seek partnerships to carry out the final plan, and we announce two public meetings to discuss the draft Educational Outreach Program Interim Action Plan and suggested modifications for future activities under a long-term plan.

DATES: (1) Draft Educational Outreach Program Interim Action Plan review: If you wish to view a copy of the draft Educational Outreach Program Interim Action Plan, please submit a written request for a copy of this document to the address listed below within 30 days of the date of publication of this notice. We will consider written comments and suggestions you submit regarding the Educational Outreach Program Interim Action Plan if we receive them by June 19, 2000.

(2) Public Meetings: You are invited to participate in one or both of our Educational Outreach Action Plan public meetings, one to be held on the east coast on May 18, 2000, 1:30-4:30 p.m., and the second to be held on the west coast on June 4, 2000, 1:30-4:30 p.m.

ADDRESSES: (1) Educational Outreach Program Interim Action Plan review: Office of Management Authority; U.S. Fish and Wildlife Service; 4401 North Fairfax Drive; Room 700; Arlington, VA 22203. Comments on the draft Educational Outreach Program Interim Action Plan may be submitted by any one of several methods. You may mail comments to the above address. You may also comment via E-mail to r9oma_cites@fws.gov. Please submit E-mail comments as an ASCII file, avoiding the use of special characters and any form of encryption. Please also include “Attn: Rhinoceros and Tiger Conservation Act of 1998” and your name and return address in your E-mail message. If you do not receive a confirmation from the system that we have received your E-mail message, contact us directly at the telephone number listed below. Finally, you may hand-deliver comments to the above address.

Comments and materials received will be available for public inspection, by appointment, from 8 a.m. to 4 p.m., Monday through Friday, at the above address.

(2) Public Meetings: The two public meetings will be held (see DATES above) to discuss the Educational Outreach Action Plan. The first meeting will be held in New York at The College of Insurance, 101 Murray Street, New York, NY and the second in San Francisco at The Galleria Park Hotel, 191 Sutter Street, San Francisco, CA.

Directions to either location can be obtained by contacting the Office of Management Authority (see FOR FURTHER INFORMATION CONTACT below). Please note that both locations are accessible to the handicapped and all persons planning to attend the meeting will be required to present photo identification when entering the building. Persons planning to attend the meeting who require interpretation for the hearing impaired should notify the Office of Management Authority as soon as possible.

FOR FURTHER INFORMATION CONTACT: Teiko Saito, Chief, Office of Management Authority, Branch of CITES Operations, phone 703/358-2095, fax 703/358-2298, E-mail: r9oma_cites@fws.gov.

SUPPLEMENTARY INFORMATION:

Background

Congress passed the Rhinoceros and Tiger Conservation Act of 1994 (the Act) to assist in the conservation of rhinoceroses and tigers by supporting critical conservation programs in nations whose activities directly or indirectly affect rhino and tiger populations. The Act also established the Rhinoceros and Tiger Conservation Fund to provide financial resources for on-the-ground conservation programs and to promote education to increase public awareness of the plight of rhinos and tigers in the wild.

Rhinoceroses and tigers are among the most critically endangered large mammals in the world and are the focus of extensive global conservation efforts aimed at halting their decline. Consumer demand for and trade in the parts and products of these species supply luxury markets as well as markets for cultural and medicinal needs. One of the most complex and far-reaching of these demands is for use in traditional medicines.

Commercial international trade of raw rhino horn and tiger bone and their derivative products is prohibited by the Convention on International Trade in Endangered Species of Wild Fauna and Flora (CITES), in addition to domestic legislation in the United States and China. The Act of 1994 was amended and strengthened by the Rhinoceros and Tiger Conservation Act of 1998, which (a) outlined specific trade prohibitions of rhino and tiger products and (b) mandated a national educational outreach program.

(a) The Act of 1998 “prohibits the sale, importation, exportation, or attempts to sell, import, or export, any product, item, or substance intended for human consumption or application, containing, or labeled or advertised as containing, any substance derived from any species of rhinoceros or tiger.” Further, specific criminal and civil penalties for violating this law are included, as well as enforcement strategies. This Act sets prohibitions on items labeled or advertised as containing rhino or tiger products, even if the presence of rhino and tiger ingredients cannot be verified scientifically. These new prohibitions will reduce the promotion of these ingredients in consumer products, thereby decreasing consumer demand and potentially benefitting the species in the wild.

(b) The amended Act also requires that the Secretary of the Interior develop and carry out an educational outreach program in the United States for the conservation of rhinoceros and tiger species. The contents of the Educational Outreach Program Action Plan will include:

(1) Guidelines for the National Educational Outreach Program;

(2) Active pursuit of opinions from organizations and people actively involved in the traditional medicines trade;

(3) Aggressive advertising of the laws protecting rhinoceros and tiger species, focusing on the laws prohibiting trade in products containing, or labeled or advertised as containing, their parts or products;

(4) Widespread distribution of information regarding the negative effects of the toxics and heavy metals found in some packaged traditional medicines; and

(5) Information on the status of rhinoceros and tiger species populations and the reasons for protecting the species.

Through this Federal Register notice and the two scheduled public meetings, we are seeking public input into the development and execution of the Educational Outreach Program Action Plan. Our practice is to make comments, including names and addresses of respondents, available for public review during regular business hours. Individual respondents may request that we withhold their home address from the public record, which we will honor to the extent allowable by law. In limited circumstances, we would withhold from release a respondent's identity, as allowable by law. If you wish us to withhold your name and/or address, you must state this clearly at the beginning of your comment. However, we will not consider anonymous comments. We generally make all submissions from organizations or businesses, and from individuals identifying themselves as representatives or officials of organizations or businesses, available for public inspection in their entirety.

We hope to work closely with the nonprofit conservation community and traditional medicine communities as well as the public in creating a strong outreach plan and carrying out the contents of that plan. We recognize that a number of groups are already actively involved in educating the public about rhinoceros and tiger products and the conservation of these species, and we wish to integrate our efforts with theirs. Partnerships hold the key to successfully informing the public about the conservation needs of rhinoceros and tiger species. We are looking to identify partner organizations that we can work with in carrying out the long-term objectives and actions of a national outreach plan. The purpose of the two scheduled public meetings is to solicit additional public input into the completion of a final Educational Outreach Program Action Plan, as well as to serve as a starting point for future interactions with communities that have historically used products containing rhino horn and tiger part derivatives. After receiving public input, we will develop a long-term national educational outreach plan and program that will rely strongly on public involvement in its future implementation.

Author: This notice was prepared by Cynthia Perera and Anne St. John, Office of Management Authority, under the authority of The Rhinoceros and Tiger Conservation Act of 1998 (16 U.S.C. 5301).

Dated: April 7, 2000.
Jamie Rappaport Clark,
Director, U.S. Fish and Wildlife Service.

[FR Doc. 00-9914 Filed 4-19-00; 8:45 am]

BILLING CODE 4310-55-P